SMALL BUSINESS ADMINISTRATION

[Disaster Declaration #17761 and #17762; Georgia Disaster Number GA-00151]

Presidential Declaration of a Major Disaster for the State of Georgia

AGENCY: U.S. Small Business Administration.

ACTION: Notice.

SUMMARY: This is a Notice of the Presidential declaration of a major disaster for the State of Georgia (FEMA-4685-DR), dated 01/16/2023.

Incident: Severe Storms, Straight-line Winds, and Tornadoes.

Incident Period: 01/12/2023.

DATES: Issued on 01/16/2023.

Physical Loan Application Deadline Date: 03/17/2023.

Economic Injury (EIDL) Loan Application Deadline Date: 10/16/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 01/16/2023, applications for disaster loans may be filed at the address listed above or other locally announced locations.

The following areas have been determined to be adversely affected by the disaster:

Primary Counties (Physical Damage and Economic Injury Loans): Butts, Henry, Jasper, Meriwether, Newton, Spalding, Troup.

Contiguous Counties (Economic Injury Loans Only):

Georgia: Clayton, Coweta, Dekalb, Fayette, Harris, Heard, Jones, Lamar, Monroe, Morgan, Pike, Putnam, Rockdale, Talbot, Upson, Walton.

Alabama: Chambers, Randolph.

The Interest Rates are:

| Percent
For Physical Damage:
Homeowners with Credit Available Elsewhere | 4.625
Homeowners without Credit Available Elsewhere | 2.313
Businesses with Credit Available Elsewhere | 6.610
Businesses without Credit Available Elsewhere | 3.305
Non-Profit Organizations with Credit Available Elsewhere | 2.375
Non-Profit Organizations without Credit Available Elsewhere | 2.375
For Economic Injury:
Businesses & Small Agricultural Cooperatives without Credit Available Elsewhere | 3.305
Non-Profit Organizations without Credit Available Elsewhere | 2.375

(Catalog of Federal Domestic Assistance Number 59008)

Rafaela Monchek,
Acting Associate Administrator for Disaster Recovery and Resilience.

[FR Doc. 2023-01241 Filed 1-23-23; 8:45 am]

BILLING CODE 8026-09-P